NATIONAL CREDIT UNION ADMINISTRATION

Sunshine Act Meetings

TIME AND DATE: 10:00 a.m., December 15, 2022.

PLACE: Board Room, 7th Floor, Room 7B, 1775 Duke Street (All visitors must use Diagonal Road Entrance), Alexandria, VA 22314-3428.

STATUS: This meeting will be open to the public.

MATTERS TO BE CONSIDERED:

1. Board Briefing, Share Insurance Fund 2023 Normal Operating Level.

2. NCUA's 2023-2024 Budget.

3. NCUA Rules and Regulations, Financial Innovation—Loan Participation, Eligible Obligations, and Notes of Liquidating Credit Unions.

CONTACT PERSON FOR MORE INFORMATION: Melane Conyers-Ausbrooks, Secretary of the Board, Telephone: 703-518-6304.

Melane Conyers-Ausbrooks,
Secretary of the Board.

[FR Doc. 2022-27079 Filed 12-9-22; 11:15 am]

BILLING CODE 7535-01-P